ENVIRONMENTAL PROTECTION AGENCY

[EPA-HQ-OECA-2010-0291; FRL- 9903-87-OEI]

Agency Information Collection Activities: Submission to OMB for Review and Approval; State Review Framework; EPA ICR Number 2185.05

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before January 6, 2014.

ADDRESSES: Submit your comments, identified by Docket ID No. EPA-HQ-OECA-2010-0291, by one of the following methods:

• http://www.regulations.gov: (our preferred method) Follow the online instructions for submitting comments.

• Mail: Enforcement and Compliance Docket, Environmental Protection Agency, Mailcode: 2221A, 1200 Pennsylvania Ave. NW., Washington, DC 20460.

• Hand Delivery: Information Center in the EPA Docket Center (EPA/DC), EPA West, Room 3334, 1301 Constitution Avenue NW., Washington, DC. The EPA Docket Center Public Reading Room is open from 8:30 a.m. to 4:30 p.m., Monday through Friday, excluding legal holidays. The telephone number for the Reading Room is (202) 566-1744, and the telephone number for the Enforcement and Compliance Docket is (202) 566-1752. Such deliveries are only accepted during the Docket's normal hours of operation, and special arrangements should be made for deliveries of boxed information.

FOR FURTHER INFORMATION CONTACT: Christopher Knopes, Office of Enforcement and Compliance Assurance, Office of Compliance, MC: 2221A, Environmental Protection Agency, 1200 Pennsylvania Ave. NW., Washington, DC 20460; telephone number: 202-564-2337; fax number: 202-564-0027; email address: knopes.christopher@epa.gov.

SUPPLEMENTARY INFORMATION: EPA has submitted the following ICR to OMB for review and approval according to the procedures prescribed in 5 CFR 1320.12. On September 10, 2013 (78 FR 55252), EPA sought comments on this ICR pursuant to 5 CFR 1320.8(d). EPA received no comments. Any additional comments on this ICR should be submitted to EPA and OMB within 30 days of this notice. EPA has established a public docket for this ICR under Docket ID No. EPA-HQ-OECA-2010-0291, which is available for online viewing at www.regulations.gov. Use EPA's electronic docket and comment system at www.regulations.gov.

Title: State Review Framework.

ICR numbers: EPA ICR No. 2185.05, OMB Control No. 2020-0031.

ICR status: This ICR is scheduled to expire on December 31, 2013. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR Part 9.

Abstract: The State Review Framework (“Framework”) is an oversight tool designed to assess state performance in enforcement and compliance assurance. The Framework's goal is to evaluate state performance by examining existing data to provide a consistent level of oversight and develop a uniform mechanism by which EPA Regions, working collaboratively with their states, can ensure that state environmental agencies are consistently implementing the national compliance and enforcement program in order to meet agreed-upon goals. Furthermore, the Framework is designed to foster dialogue on enforcement and compliance performance between the states that will enhance relationships and increase feedback, which will in turn lead to consistent program management and improved environmental results. The Framework is described in the April 26, 2005, Federal Register Notice (79 FR 21408) [http://edocket.access.gpo.gov/2005/pdf/05-8320.pdf]. This amendment will allow OECA to collect information from enforcement and compliance files reviewed during routine on-site visits of state or local agency offices that will assist in the evaluation of the State Review Framework implementation from FY 2014 to the end of FY 2017. This request will allow EPA to make inquiries to assess the State Review Framework process, including the consistency achieved among the EPA Regions and states, the resources required to conduct the reviews, and the overall effectiveness of the program.

Burden Statement: The annual public reporting and recordkeeping burden for this collection of information is estimated to average 521 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 54.

Frequency of response: Once every five years.

Estimated total average number of responses for each respondent: one.

Estimated total annual burden hours: 5,626.8 hours.

Estimated total annual costs: $214,725.48. This includes an estimated burden cost of $0 for capital investment or maintenance and operational costs.

Changes in the estimates: There has been a decrease in the hours in the total estimated respondent burden compared with that identified in the ICR currently approved by OMB. There has been a decrease in the cost in the total estimated respondent burden based on implemented program efficiencies.

Richard T. Westlund,
Acting Director, Collection Strategies Division.

[FR Doc. 2013-29131 Filed 12-5-13; 8:45 m]

BILLING CODE 6560-50-P